DEPARTMENT OF TRANSPORTATION

Coast Guard

[USCG 2001-10613]

Collection of Information Under Review by Office of Management and Budget (OMB): OMB Control Number 2115-0003

AGENCY: Coast Guard, DOT.

ACTION: Request for comments.

SUMMARY: In compliance with the Paperwork Reduction Act of 1995, the Coast Guard intends to seek the approval of OMB for the renewal of one Information Collection Request (ICR). The ICR comprises Information on Marine Casualties; Testing Personnel of Commercial Vessels for Drugs and Alcohol; and Management Information Systems. Before submitting the ICR to OMB, the Coast Guard is requesting comments on it.

DATES: Comments must reach the Coast Guard on or before November 19, 2001.

ADDRESSES: You may mail comments to the Docket Management System (DMS) [USCG 2001-10613], U. S. Department of Transportation (DOT), room PL-401, 400 Seventh Street SW., Washington, DC 20590-0001, or deliver them to room PL-401, located on the Plaza Level of the Nassif Building at the same address between 9 a.m. and 5 p.m., Monday through Friday, except Federal holidays. The telephone number is 202-366-9329.

The DMS maintains the public docket for this request. Comments will become part of this docket and will be available for inspection or copying in room PL-401, located on the Plaza Level of the Nassif Building at the above address between 9 a.m. and 5 p.m., Monday through Friday, except Federal holidays. You may also access this docket on the Internet at http://dms.dot.gov.

Copies of the complete ICR are available through this docket on the Internet at http://dms.dot.gov and also from Commandant (G-CIM-2), U.S. Coast Guard Headquarters, room 6106 (Attn: Barbara Davis), 2100 Second Street SW., Washington, DC 20593-0001. The telephone number is 202-267-2326.

FOR FURTHER INFORMATION CONTACT: Barbara Davis, Office of Information Management, 202-267-2326, for questions on this document; or Dorothy Beard, Chief, Documentary Services Division, U.S. Department of Transportation, 202-366-5149, for questions on the docket.

Request for Comments

The Coast Guard encourages interested persons to submit written comments. Persons submitting comments should include their names and addresses, identify this document [USCG 2001-10613], and give the reason for the comments. Please submit all comments and attachments in an unbound format no larger than 8½ by 11 inches, suitable for copying and electronic filing. Persons wanting acknowledgment of receipt of comments should enclose stamped self-addressed postcards or envelopes.

Information Collection Request

1. Title: Information on Marine Casualties; Testing Personnel of Commercial Vessels for Drugs and Alcohol; and Management Information Systems.

OMB Control Number: 2115-0003.

Summary: The Coast Guard needs information with which it can investigate mishaps to commercial vessels causing death, extensive damage, and the like, as mandated by Congress. It needs information from chemical testing so it can detect and reduce the use of drugs and alcohol by mariners, also as mandated by Congress. And it needs certain information on management so it can evaluate the effectiveness of its programs.

Need: 46 U.S.C. 6101 authorizes the Coast Guard to prescribe rules for reporting of marine casualties. 46 CFR parts 4 and 16 prescribe the rules governing marine casualties and chemical testing.

Respondents: The owner, agent, master, operator, or person-in-charge of a vessel involved in a marine casualty.

Frequency: On occasion.

Burden Estimate: The estimated burden is 19,195 hours a year.

Dated: Septmeber 12, 2001.
V.S. Crea,
Director of Information and Technology.

[FR Doc. 01-23259 Filed 9-17-01; 8:45 am]

BILLING CODE 4910-15-U